DEPARTMENT OF ENERGY

Federal Energy Regulatory Commission

[Docket No. RP03-38-000]

North Baja Pipeline, LLC; Notice of Tariff Filing

October 25, 2002.

Take notice that on October 21, 2002, North Baja Pipeline, LLC (NBP) tendered for filing to be part of its FERC Gas Tariff, Original Volume No. 1, First Revised Sheet No. 164, First Revised Sheet No. 171, Second Revised Sheet No. 173 and First Revised Sheet No. 174, with an effective date of October 1, 2002.

NBP states that these tariff sheets reflect modifications necessary to reinstate the rate ceiling for short-term capacity release transactions following the conclusion of FERC's two-year waiver period as provided for in Order No. 637.

NBP further states that a copy of this filing has been served on NBP's jurisdictional customers and interested state regulatory agencies.

Any person desiring to be heard or to protest said filing should file a motion to intervene or a protest with the Federal Energy Regulatory Commission, 888 First Street, NE, Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Magalie R. Salas,
Secretary.

[FR Doc. 02-27948 Filed 11-1-02; 8:45 am]

BILLING CODE 6717-01-P